DEPARTMENT OF TRANSPORTATION

Office of the Secretary

[Docket No. DOT-OST-2022-0016]

Non-Traditional and Emerging Transportation Technology (NETT) Council; Request for Comment

AGENCY: Office of the Secretary (OST), Department of Transportation (DOT).

ACTION: Notice; request for comment.

SUMMARY: The Office of the Secretary of Transportation (OST) invites public comment on projects, issues, or topics that DOT should consider through the Non-Traditional and Emerging Transportation Technology (NETT) Council. Public comments will inform the Department's future efforts with the NETT Council.

DATES: Comments are requested by April 8, 2022. See the SUPPLEMENTARY INFORMATION section on “Public Participation,” below, for more information about written comments.

ADDRESSES:

Written Comments: Comments should refer to the docket number above and be submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments and additional information on the rulemaking process, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/privacy.

Docket: For access to the docket to read background documents or comments received, go to http://www.regulations.gov or to the street address listed above. Follow the online instructions for accessing the dockets.

FOR FURTHER INFORMATION CONTACT: Please contact us at NETTCouncil@dot.gov or David Carter (david.carter@dot.gov, 202-366-4813) for questions. Office hours are from 8 a.m. to 5 p.m., EST, Monday through Friday, except Federal holidays.

SUPPLEMENTARY INFORMATION: Section 25008 of the Infrastructure Investment and Jobs Act (Pub. L. 117-58) authorizes the NETT Council to address coordination on emerging technology issues across all modes of transportation. The NETT Council shall (1) identify and resolve jurisdictional and regulatory gaps or inconsistencies associated with nontraditional and emerging transportation technologies, modes, or projects pending or brought before the Department of Transportation to reduce, to the maximum extent practicable, impediments to the prompt and safe deployment of new and innovative transportation technology, including with respect to safety oversight, environmental review, and funding and financing issues; (2) coordinate the response of the Department of Transportation to nontraditional and emerging transportation technology projects; (3) engage with stakeholders in nontraditional and emerging transportation technology projects; and (4) develop and establish Department of Transportation-wide processes, solutions, and best practices for identifying and managing nontraditional and emerging transportation technology projects.

DOT is focused on improving safety, economic strength and creating good-paying jobs with the choice of a union, equity, climate, and resilience. DOT is also modernizing a transportation system of the future through research and innovation—all while maintaining the highest standards in organizational excellence. DOT is seeking public comments to help inform the future work and direction of the NETT Council. The questions below are meant to guide commenters; however, commenters are invited to provide their views or general comments related to how the Council evaluates transportation innovation, and relevant innovations for it to focus on. If relevant, please provide technical information, regulatory citations, data, or other evidence to support your comments.

The NETT Council's Work

1. How can the NETT Council most effectively serve as an entry point for nontraditional and emerging innovation and technologies ready for integration into the transportation system?

2. What has worked well, and not well, about the current structure and activities of the NETT Council?

Considering a Range of Perspectives in the NETT Council's Analyses

3. How can the NETT Council best incorporate the perspective of and engage with other Federal agencies and a broad range of stakeholders (e.g., academia, labor unions, state, local, and tribal governments, private sector) to fully understand potential issues and opportunities related to transportation innovation?

4. How can the NETT Council more effectively reflect inputs from a broad range of transportation stakeholders to assess the positive and negative consequences of transportation innovation?

5. Are there additional stakeholders the NETT Council's analysis should reflect?

6. Are there stakeholder groups that have been marginalized in transportation technology innovation that should be better represented in the NETT Council's analysis and work?

Priority Technologies and Innovations for the NETT Council To Review

7. Using DOT's authorities, what nontraditional and emerging innovation and technologies should NETT Council prioritize for analysis as most impactful, positive or negative, for the transportation system? What emerging innovations have the most significant potential impact on DOT's strategic goals of safety, economic strength & global competitiveness, including creating good-paying jobs, equity, climate and sustainability, transformation, and organizational excellence?

8. What emerging innovations face gaps in focus, support, and/or regulation under DOT's existing regulatory frameworks, and should be reviewed by the NETT Council?

9. What emerging transportation technologies should the NETT Council evaluate for their potential to contribute to ensuring American workers and domestic sourcing and supply chains are strengthened rather than weakened through transportation innovation, including advancing activities under the President's Made in America Executive Order 14005, dated January 25, 2021, and the President's Executive Order 14017 on America's Supply Chains, dated February 24, 2021?

10. What other pressing issues, challenges, and opportunities for transportation innovation should be addressed through the NETT Council?

Public Participation

How do I prepare and submit comments?

Your comments must be written in English. To ensure that your comments are filed correctly in the docket, please include the docket number of this document in your comments.

Please submit one copy (two copies if submitting by mail or hand delivery) of your comments, including the attachments, to the docket following the instructions given above under ADDRESSES. Please note, if you are submitting comments electronically as a PDF (Adobe) file, we ask that the documents submitted be scanned using an Optical Character Recognition (OCR) process, thus allowing the agency to search and copy certain portions of your submissions.

How do I submit confidential business information?

Any submissions containing Confidential Information must be delivered to OST in the following manner:

• Submitted in a sealed envelope marked “confidential treatment requested”;

• Document(s) or information that the submitter would like withheld should be marked “PROPIN”; Accompanied by an index listing the document(s) or information that the submitter would like the Departments to withhold. The index should include information such as numbers used to identify the relevant document(s) or information, document title and description, and relevant page numbers and/or section numbers within a document; and

• Submitted with a statement explaining the submitter's grounds for objecting to disclosure of the information to the public.

OST will treat such marked submissions as confidential under the FOIA and will not include it in the public docket. OST also requests that submitters of Confidential Information include a non-confidential version (either redacted or summarized) of those confidential submissions in the public docket. In the event that the submitter cannot provide a non-confidential version of its submission, OST requests that the submitter post a notice in the docket stating that it has provided OST with Confidential Information. Should a submitter fail to docket either a non-confidential version of its submission or to post a notice that Confidential Information has been provided, we will note the receipt of the submission on the docket, with the submitter's organization or name (to the degree permitted by law) and the date of submission.

Will the Agency consider late comments?

OST will consider all comments received before the close of business on the comment closing date indicated above under DATES. To the extent possible, the agency will also consider comments received after that date.

How can I read the comments submitted by other people?

You may read the comments received at the address given above under WRITTEN COMMENTS. The hours of the docket are indicated above in the same location. You may also see the comments on the internet, identified by the docket number at the heading of this notice, at http://www.regulations.gov.

Issued in Washington, DC, on March 2, 2022, under authority delegated at 49 CFR 1.25a.
Vincent Gerard White Jr.,
Senior Advisor for Innovation.
Michael Paris Shapiro,
Deputy Assistant Secretary for Economic Policy.

[FR Doc. 2022-04728 Filed 3-8-22; 8:45 am]

BILLING CODE 4910-9X-P